DEPARTMENT OF COMMERCE

National Oceanic and Atmospheric Administration

[I.D. 010804D]

South Atlantic Fishery Management Council; Public Meeting

AGENCY: National Marine Fisheries Service (NMFS), National Oceanic and Atmospheric Administration (NOAA), Commerce.

ACTION: Notice of public meeting.

SUMMARY: The South Atlantic Fishery Management Council (Council) will hold a meeting of its Ecosystem-Based Management Committee to discuss and develop definitions and approaches to ecosystem-based management.

DATES: The meeting will take place February 5-6, 2004. Meeting participants will meet from 8:30 a.m. until 5 p.m. on February 5, 2004 and again from 8:30 a.m. until 12 noon on February 6, 2004.

ADDRESSES: The meeting will be held at the Town and Country Inn, 2008 Savannah Highway, Charleston, SC 29407; telephone: 800/334-6660 or 843/571-1000.

FOR FURTHER INFORMATION CONTACT: Kim Iverson, Public Information Officer, South Atlantic Fishery Management Council, One Southpark Circle, Suite 306, Charleston, SC 29407; telephone: 843/571-4366 or 866/SAFMC-10; fax: 843/769-4520.

SUPPLEMENTARY INFORMATION: The Ecosystem-Based Management Committee will review and discuss definitions of an ecosystem and an ecosystem approach to management, terms that have been widely discussed and applied to natural resource management to date. Using these comprehensive definitions as a foundation, the Committee will then develop a working definition of the terms and ideas that is applicable to the South Atlantic Region. The Committee will also discuss opportunities to expand the current fishery management plans and the Habitat Plan in and effort to best integrate ecosystem-based principles into the fishery management process.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to the Council office (see ADDRESSES) by February 3,2004.

Dated: January 12, 2004.
Peter H. Fricke,
Acting Director, Office of Sustainable Fisheries, National Marine Fisheries Service.

[FR Doc. 04-1008 Filed 1-15-04; 8:45 am]

BILLING CODE 3510-22-S